DEPARTMENT OF THE INTERIOR

Bureau of Land Management

[NM-940-08-1420-BJ]

Notice of Filing of Plats of Survey; Oklahoma

AGENCY: Bureau of Land Management, Interior.

ACTION: Notice.

SUMMARY: The plat of survey described below is scheduled to be officially filed in the New Mexico State Office, Bureau of Land Management, Santa Fe, New Mexico, (30) thirty calendar days from the date of this publication, per BLM Manual 2097, Opening Orders.

SUPPLEMENTARY INFORMATION:

New Mexico Principal Meridian, New Mexico

The plat representing the dependent resurvey of a portion of the north boundary, a portion of the subdivisional lines, a portion of the subdivision of section 3, and the survey of a portion of the subdivision of section 3, and the metes and bounds survey of the boundaries of the Federal Law Enforcement Training Center and the City of Artesia Airport lease, Township 17 South, Range 25 East, New Mexico Principal Meridian, accepted April 2, 2008, for Group 1074 NM.

If a protest against a survey, in accordance with 43 CFR 4.450-2, of the above plat is received prior to the date of official filing, the filing will be stayed pending consideration of the protest. A plat will not be officially filed until the day after all protests have been addressed.

A person or party who wishes to protest against this survey must file a written protest with the New Mexico State Director, Bureau of Land Management at the address below, stating that they wish to protest.

A statement of reasons for a protest may be filed with the notice of protest to the State Director, or the statement of reasons must be filed with the State Director within thirty days after the protest is filed.

FOR FURTHER INFORMATION CONTACT: These plats will be available for inspection in the New Mexico State Office, Bureau of Land Management, P.O. Box 27115, Santa Fe, New Mexico, 87502-0115. Copies may be obtained from this office upon payment of $1.10 per sheet. Contact Marcella Montoya at 505-438-7537, or Marcella_Montoya@nm.blm.gov, for assistance.

Dated: April 2, 2008.
Robert Casias,
Chief Cadastral Surveyor for New Mexico.

[FR Doc. E8-7824 Filed 4-11-08; 8:45 am]

BILLING CODE 4310-FB-P